DEPARTMENT OF TRANSPORTATION

Federal Highway Administration

Environmental Impact Statement: Monterey County, CA

AGENCY: Federal Highway Administration (FHWA), DOT.

ACTION: Notice of intent.

SUMMARY: The FHWA is issuing this notice to advise the public that an environmental impact statement will be prepared for a proposed highway project in Monterey County.

FOR FURTHER INFORMATION CONTACT: C. Glenn Clinton, Team Leader, Program Delivery Team—North, Federal Highway Administration, 980 Ninth Street, Suite 400, Sacramento, California 95814-2724, Telephone: 916-498-5020.

SUPPLEMENTARY INFORMATION: The FHWA, in cooperation with the California Department of Transportation (Caltrans), will prepare an environmental impact statement (EIS) on a proposed project to construct three operational improvements to improve traffic flow on portions of State Route 1 between Carmel Valley Road and the Route 1/68 interchange (a distance of 2.2 miles), near the City of Carmel-by-the-Sea, in Monterey County. The project is to add a northbound climbing land and a median left turn lane from Carmel Valley Road to Ocean Avenue; add a left turn lane for northbound traffic turning onto Handley Drive; and add an additional northbound lane from Handley Drive to the Route 1/68 interchange. The other alternative under consideration would construct one, two or none of the three proposed operational improvements. The proposed project would basically be an upgrade of the existing facility.

There would be a public scoping meeting to discuss the proposed project and another opportunity for public comment on the draft environmental document during the circulation phase of the draft environmental impact statement (DEIS).

To ensure that the full range of issues related to this proposed action is addressed and all significant issues identified, comments and suggestions are invited from all interested parties. The views of agencies that may have interest in the effects of the proposal on historic properties are specifically solicited. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Issued on: December 6, 2000.
C. Glenn Clinton,
Team Leader, Program Delivery Team—North, Sacramento, California.

[FR Doc. 00-31895 Filed 12-13-00; 8:45 am]

BILLING CODE 4910-22-M